DEPARTMENT OF COMMERCE

National Oceanic and Atmospheric Administration

[RTID 0648-XE758]

North Pacific Fishery Management Council; Public Meeting

AGENCY: National Marine Fisheries Service (NMFS), National Oceanic and Atmospheric Administration (NOAA), Commerce.

ACTION: Notice of public virtual meeting.

SUMMARY: The North Pacific Fishery Management Council (Council) Bering Sea Aleutian Islands Crab Plan Team (BSAI CPT) will meet from May 12, 2025 to May 15, 2025.

DATES: The meeting will be held on Monday, May 12, 2025 through Thursday, May 15, 2025, from 9 a.m. to 5 p.m., AK time.

ADDRESSES: The meeting will be a virtual meeting. Join the meeting online through the link at https://meetings.npfmc.org/Meeting/Details/3086.

Council address: North Pacific Fishery Management Council, 1007 W. Third Ave, Suite 400, Anchorage, AK 99501-2252; telephone: (907) 271-2809. Instructions for attending the meeting via video conference are given under SUPPLEMENTARY INFORMATION, below.

FOR FURTHER INFORMATION CONTACT: Anita Kroska, Council staff; phone: (907) 271-2809; email: anita.kroska@noaa.gov. For technical support, please contact our admin Council staff; email: npfmc.admin@noaa.gov.

SUPPLEMENTARY INFORMATION:

Agenda

Monday, May 12, 2025 Through Thursday, May 15, 2025

The agenda will include: (a) Aleutian Island golden king crab final SAFE; (b) general ecosystem and economic profile (ESP) updates; (c) risk table discussion; (d) draft Tanner crab ESP; (e) proposed model runs for Tanner crab, Bristol Bay red king crab, Eastern Bering Sea snow crab, Pribilof Island blue king crab, Pribilof Island red king crab, and Norton Sound red king crab; (f) Council updates; (g) model based indices update; (h) survey modernization spatiotemporal model update; (i) jitter and MCMC stock assessment guidelines; (j) survey update on length-weight regression; (k) Bering Sea Fisheries Research Foundation (BSFRF) updates; and (l) other business.

The agenda is subject to change, and the latest version will be posted at https://meetings.npfmc.org/Meeting/Details/3086 prior to the meeting, along with meeting materials.

Connection Information

You can attend the meeting online using a computer, tablet, or smart phone, or by phone only. Connection information will be posted online at: https://meetings.npfmc.org/Meeting/Details/3086.

Public Comment

Public comment letters will be accepted and should be submitted electronically to https://meetings.npfmc.org/Meeting/Details/3086.

Authority: 16 U.S.C. 1801 et seq.

Dated: March 12, 2025.
Rey Israel Marquez,
Acting Deputy Director, Office of Sustainable Fisheries, National Marine Fisheries Service.

[FR Doc. 2025-04283 Filed 3-14-25; 8:45 am]

BILLING CODE 3510-22-P